DEPARTMENT OF EDUCATION

National Institute on Disability and Rehabilitation Research (NIDRR)—Disability and Rehabilitation Research Projects and Centers Program—Rehabilitation Research and Training Centers (RRTCs)—Improved Outcomes for Individuals With Serious Mental Illness and Co-Occurring Conditions

Catalog of Federal Domestic Assistance (CFDA) Number: 84.133B-5.

AGENCY: Office of Special Education and Rehabilitative Services, Department of Education.

ACTION: Notice of proposed priority.

SUMMARY: The Assistant Secretary for Special Education and Rehabilitative Services proposes a funding priority for the Disability and Rehabilitation Research Projects and Centers Program administered by NIDRR. Specifically, this notice proposes a priority for an RRTC on Improved Outcomes for Individuals with Serious Mental Illness and Co-Occurring Conditions. The Assistant Secretary may use this priority for competitions in fiscal year (FY) 2010 and later years. We take this action to focus research attention on areas of national need. We intend this priority to improve rehabilitation services and outcomes for individuals with disabilities.

DATES: We must receive your comments on or before May 24, 2010.

ADDRESSES: Address all comments about this notice to Donna Nangle, U.S. Department of Education, 400 Maryland Avenue, SW., room 5142, Potomac Center Plaza (PCP), Washington, DC 20202-2700.

If you prefer to send your comments by e-mail, use the following address: donna.nangle@ed.gov. You must include the term “Proposed Priority for an RRTC on Improved Outcomes for Individuals with Serious Mental Illness and Co-Occurring Conditions” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION:

This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for RRTC competitions in FY 2010 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 5142, 550 12th Street, SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended.

RRTC Program

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

Proposed Priority

This notice contains one proposed priority.

Improved Outcomes for Individuals With Serious Mental Illness and Co-Occurring Conditions

Background

As many as 6.5 percent of adults ages 18-64 experience serious mental illness (SMI) during any 12-month period (Kessler et al., 2008). Individuals with SMI are at high risk for chronic diseases such as cardiovascular disease, diabetes, asthma, and cancer (Colton & Manderscheid, 2006; Sederer, et al., 2006). The comorbidity of SMI and chronic disease is associated with limitations on activities such as self-care and employment (McKnight-Eily et al., 2007). Individuals with SMI experience disproportionately low rates of employment compared to the general United States population and to other individuals with disabilities, and those with SMI and co-occurring conditions work even fewer hours, have lower total earnings, and are less likely to engage in competitive employment than those with SMI alone (Cook et al., 2005; Goldberg et al., 2007).

Health promotion, illness self-management, and using a holistic approach to rehabilitation are practices that have been rigorously studied and effectively used to prevent, control, or treat a variety of medical conditions such as diabetes, breast and cervical cancer, heart disease, and stroke. Peer-delivered health and wellness education curriculums also have been widely implemented to reduce tobacco or alcohol usage, improve nutrition, and modify risk behaviors among the general population or subpopulations, including women, workers, and members of racial or ethnic minorities (CDC, 2009; Collins, Marks, and Koplan, 2009). While some of this research and practice addresses health promotion for individuals with SMI, the science for individuals with SMI is still emerging, and has not sufficiently advanced to address the needs and experiences of individuals with SMI and co-occurring conditions (CMHS, 2005; Richardson et al., 2005; Sederer et al., 2006).

Past research funded by NIDRR and others provides a potential base for testing models that link management and self-management of SMI and co-occurring physical conditions to mental health recovery (Vandiver, 2007). For example, consumer-to-consumer education and consumer-directed programs ¹ for individuals with SMI can be effective in promoting recovery from mental illness and merit further study as mechanisms for health promotion (CMHS, 2005). At the systems level, lack of integration and coordination of mental health and primary care services contribute to poor health outcomes for those with SMI (CMHS, 2005). Further study on integration and coordination of mental health and primary care services at the systems level, therefore, would be highly beneficial for individuals with SMI and co-occurring physical conditions.

¹ Consumer-directed models of service delivery are defined by the belief that individuals with disabilities should determine the types, amounts, and sources of the services they receive. In the mental health services context, consumer-directed care approaches include self-help and mutual-aid support groups, mental illness self-management, and advance crisis planning by individuals with SMI (Cook, 2005).

Improved management of SMI and co-occurring conditions could contribute to improved health and employment outcomes for these individuals (Merikangas et al., 2007). Research is needed to develop interventions that address the interactions between SMI and health that are potential barriers to competitive employment, economic well-being, and maximum participation in society.

References

Center for Mental Health Services (CMHS), Substance Abuse and Mental Health Services Administration. (2005). HHS Pub. No. 4040. Rockville, MD: Building Bridges: Mental Health Consumers and Primary Care Representatives in Dialogue. U.S. Department of Health and Human Services. See http://download.ncadi.samhsa.gov/ken/pdf/SMA06-4040/Policy_Makers_Booklet.pdf.

Centers for Disease Control and Prevention (CDC). (2009). The Guide to Community Preventive Services. U.S. Department of Health and Human Services. See http://www.thecommunityguide.org/index.html.

Collins, J., Marks, J., & Koplan, J. (2009). Chronic disease prevention and control: Coming of age at the Centers for Disease Control and Prevention. Preventing Chronic Disease [serial online]. See http://www.cdc.gov/pcd/issues/2009/jul/08_0171.htm.

Colton, C. & Manderscheid, R. (2006). Congruencies in increased mortality rates, years of potential life lost, and causes of death among public mental health clients in eight States. Preventing Chronic Disease [serial online]. See http://www.cdc.gov/pcd/issues/2006/apr/05_0180.htm.

Cook, J. (2005). “Patient-Centered” and “Consumer-Directed” Mental Health Services. Prepared for the Institute of Medicine, Committee on Crossing the Quality Chasm—Adaptation to Mental Health & Addictive Disorders. See http://www.cmhsrp.uic.edu/download/IOMreport.pdf.

Cook, J., Burke-Miller, J., Blyler, C., Leff, H., Mueser, K., Gold, P., Goldberg, R., Mueser, K., Toprac, M., McFarlane, W., Shafer, M., Blankertz, L., Dudek, K., Razzano, L., Grey, D., & Burke-Miller, J. (2005). Results of a Multisite Randomized Trial of Supported Employment Interventions for Individuals With Severe Mental Illness. Archives of General Psychiatry, (62), 505-512. See http://archpsyc.ama-assn.org/cgi/content/full/62/5/505.

Goldberg, R., Shafer, M., Onken, S., McFarlane, W., Donegan, K., Carey, M., Kaufmann, C. & Grey, D. (2007). Effects of co-occurring disorders on employment outcomes in a multisite randomized study of supported employment for people with severe mental illness. Journal of Rehabilitation Research and Development, 44(6), 837-850.

Kessler, R., Heeringa, S., Lakoma, M., Petukhova, M., Rupp, A., Schoenbaum, M., Wang, P., & Zaslavsky, A. (2008). The Individual-Level and Societal-Level Effects of Mental Disorders on Earnings in the United States: Results From the National Comorbidity Survey Replication. American Journal of Psychiatry, 165, 703-711.

McKnight-Eily, L., Elam-Evans, L., Strine, T., Zack, M., Perry, G., Presley-Cantrell, L., Edwards, V., & Croft, J.B. (2007). Activity limitation, chronic disease, and comorbid serious psychological distress in U.S. adults—BRFSS 2007. International Journal of Public Health, 54, S111-S119.

Merikangas, K., Ames, M., Cui, L., Stang, P., Ustun, T., Von Korff, M., & Kessler, R. (2007). The Impact of Comorbidity of Mental and Physical Conditions on Role Disability in the US Adult Household Population. Archives of General Psychiatry, 64(10), 1180-1188. See http://archpsyc.ama-assn.org/cgi/content/full/64/10/1180.

Richardson, C., Faulkner, G., McDevitt, J., Skrinar, G., Hutchinson, D., & Piette, J. (2005). Integrating Physical Activity Into Mental Health Services for Persons With Serious Mental Illness. Psychiatric Services, 56(3), 324-331. See http://ps.psychiatryonline.org.

Sederer, L., Silver, L., McVeigh, K., & Levy, J. (2006). Integrating care for medical and mental illnesses. Preventing Chronic Disease [serial online]. See http://www.cdc.gov/pcd/issues/2006/apr/05_0214.htm.

Vandiver, V. (2007). Health Promotion as Brief Treatment: Strategies for Women with Co-morbid Health and Mental Health Conditions. Brief Treatment and Crisis Intervention, 7(3), 161-175. See http://btci.edina.clockss.org/cgi/content/abstract/7/3/161.

Proposed Priority

The Assistant Secretary for Special Education and Rehabilitative Services proposes a priority for a Rehabilitation Research and Training Center (RRTC) on Improved Outcomes for Individuals with Serious Mental Illness and Co-Occurring Conditions. The RRTC must conduct research to adapt, modify, and enhance health and mental health models to improve health and employment outcomes for individuals with serious mental illness (SMI) and co-occurring conditions. The RRTC must conduct research, knowledge translation, training, dissemination, and technical assistance within a framework of self-management and consumer-directed services. Under this priority, the RRTC must contribute to the following outcomes:

(a) Increased knowledge that can be used to enhance the health and well-being of individuals with SMI and co-occurring conditions. The RRTC must contribute to this outcome by:

(1) Conducting research to develop a better understanding of the health, and health care needs of individuals with SMI and co-occurring conditions.

(2) Conducting research to identify or develop and then test interventions that aim to improve health outcomes and promote recovery among individuals living with SMI and co-occurring conditions. These interventions must include individual-level health promotion strategies, such as peer supports and consumer control, as well as system-level strategies for the delivery of physical and mental health services. These interventions must be based on the findings of research conducted under paragraph (a)(1) of this proposed priority. In carrying out this activity, the grantee must investigate the applicability of strategies that have proven successful with the general population or other subpopulations to determine if they are effective with individuals with SMI and co-occurring conditions.

(b) Improved employment outcomes among individuals with SMI and co-occurring conditions. The RRTC must contribute to this outcome by conducting research that demonstrates how improvements in health service delivery mechanisms, self-management, peer support, and consumer control affect employment outcomes in individuals with SMI and co-occurring conditions. In carrying out this activity the grantee must utilize one or more of the interventions developed under paragraph (a)(2) of this proposed priority.

(c) Increased incorporation of research findings related to SMI, co-occurring conditions, health management, and employment into practice or policy. The RRTC must contribute to this outcome by coordinating with appropriate NIDRR-funded knowledge translation grantees to advance their work in the following areas:

(1) Developing, evaluating, or implementing strategies to increase utilization of research findings related to SMI, co-occurring conditions, health management, and employment.

(2) Conducting training, technical assistance, and dissemination activities to increase utilization of research findings related to SMI, co-occurring conditions, health management, and employment.

Types of Priorities

When inviting applications for a competition using one or more priorities, we designate the type of each priority as absolute, competitive preference, or invitational through a notice the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the Disability and Rehabilitation Research Projects and Centers Programs have been well established over the years in that similar projects have been completed successfully. This proposed priority will generate new knowledge through research and development.

Another benefit of this proposed priority is that the establishment of a new RRTC will improve the lives of individuals with disabilities. The new RRTC will disseminate and promote the use of new information that will improve the options for individuals with disabilities to obtain, retain, and advance in employment.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 20, 2010.
Alexa Posny,
Assistant Secretary for Special Education and Rehabilitative Services.

[FR Doc. 2010-9511 Filed 4-22-10; 8:45 am]

BILLING CODE 4000-01-P